DEPARTMENT OF AGRICULTURE

Forest Service

36 CFR Part 242

DEPARTMENT OF THE INTERIOR

43 CFR Part 51

[Docket No. DOI-2025-0071; 256D0102DM DS61900000 DMSN00000.000000 DX61901]

RIN 1090-AB31

Subsistence Management Regulations for Public Lands in Alaska—2027-28 and 2028-29 Subsistence Taking of Fish and Shellfish Regulations

AGENCY: Office of Subsistence Management, Interior; Forest Service, Agriculture.

ACTION: Proposed rule.

SUMMARY: This proposed rule would update regulations for fish and shellfish seasons, harvest limits, methods, and means related to taking of fish and shellfish for subsistence uses during the 2027-2028 and 2028-2029 regulatory years. The Federal Subsistence Board (the Board) is on a schedule of completing the process of revising subsistence take of fish and shellfish regulations in odd-numbered years and subsistence take of wildlife regulations in even-numbered years; public proposal and review processes take place during the preceding year. The Board also addresses customary and traditional use determinations during the applicable cycle and rural determinations every other fish and shellfish regulatory cycle. When final, the resulting rulemaking will replace the existing subsistence fish and shellfish taking regulations. This proposed rule could also amend the general regulations on subsistence taking of fish and wildlife. During this rulemaking cycle, the Board will accept proposals for rural determinations that will be decided by the Board during the subsequent fish and shellfish regulatory cycle.

DATES:

Public meetings: The Federal Subsistence Regional Advisory Councils (the Councils) will receive comments and make proposals to change this proposed rule during public meetings held between February 17, 2026, and April 1, 2026. The Councils will hold another round of public meetings to discuss and receive comments on the proposals and make recommendations on the proposals to the Board between September 24, 2026, and October 29, 2026 (see Alaska Subsistence Regional Advisory Council Meetings for 2026; 91 FR 3921; January 29, 2026). The Board will discuss and evaluate proposed regulatory changes during a public meeting in Anchorage, Alaska, in February 2027. See SUPPLEMENTARY INFORMATION for specific information on dates and locations of the public meetings.

Public comments: Comments and proposals to change this proposed rule must be received or postmarked by April 3, 2026.

ADDRESSES:

Public meetings: The Board and the Councils' public meetings are held at various locations in Alaska. See SUPPLEMENTARY INFORMATION for specific information on dates and locations of the public meetings.

Public comments: You may submit comments by one of the following methods:

Electronically: Go to the Federal Rulemaking Portal: https://www.regulations.gov. In the Search box, enter Docket number DOI-2025-0071. Then, click on the Search button. On the resulting page, in the Search panel on the left side of the screen, under the Document Type heading, check the Proposed Rule box to locate this document. You may submit a comment by clicking on “Comment.”

By hard copy: Submit by U.S. mail or hand delivery: Regulations, Attn: DOI-2025-0071; Office of Subsistence Management; 1011 E Tudor Road M/S 121; Anchorage, AK 99503. If in-person Council meetings are held, you may also deliver a hard copy to the Designated Federal Officer attending any of the Councils' public meetings. See SUPPLEMENTARY INFORMATION for additional information on locations of the public meetings.

We will post all comments on http://www.regulations.gov. This generally means that we will post any personal information you provide us (see the Public Review Process section below for more information).

FOR FURTHER INFORMATION CONTACT: Chair, Federal Subsistence Board, c/o Office of Subsistence Management, Attention: Crystal Leonetti, Director; (907) 786-3888 or subsistence@ios.doi.gov. For questions specific to National Forest System lands, contact Gregory Risdahl, Subsistence Program Leader, USDA, Forest Service, Alaska Region; (907) 302-7354 or gregory.risdahl@usda.gov. In compliance with the Providing Accountability Through Transparency Act of 2023, please see Docket No. DOI-2025-0071 on https://www.regulations.gov for a document that summarizes this proposed rule.

SUPPLEMENTARY INFORMATION:

Background

Under title VIII of the Alaska National Interest Lands Conservation Act (ANILCA) (16 U.S.C. 3111-3126), the Secretary of the Interior and the Secretary of Agriculture (hereafter referred to as “the Secretaries”) jointly implement the Federal Subsistence Management Program (the Program). The Program provides a preference for take of fish and wildlife resources for subsistence uses on Federal public lands and waters in Alaska. Only Alaska residents of areas or communities identified as rural are eligible to participate in the Program. The Secretaries published temporary regulations to carry out the Program in the Federal Register on June 29, 1990 (55 FR 27114), and final regulations on May 29, 1992 (57 FR 22940). Program officials have subsequently amended these regulations a number of times. Because the Program is a joint effort between the Departments of the Interior and Agriculture, these regulations are located in two titles of the Code of Federal Regulations (CFR): The Agriculture regulations are at title 36, “Parks, Forests, and Public Property,” and the Interior regulations are at title 43, “Public Lands: Interior,” at 36 CFR 242.1-28 and 43 CFR 51.1-28, respectively. Consequently, to indicate that identical changes are proposed for regulations in both titles 36 and 43, in this document we will present references to specific sections of the CFR as shown in the following example: § _.27.

The Program regulations contain subparts as follows: Subpart A, General Provisions; Subpart B, Program Structure; Subpart C, Board Determinations; and Subpart D, Subsistence Taking of Fish and Wildlife. Consistent with subpart B of these regulations, the Secretaries established a Federal Subsistence Board (the Board) to administer the Program. The Board comprises:

• A Chair appointed by the Secretary of the Interior with concurrence of the Secretary of Agriculture;

• Five public members appointed by the Secretary of the Interior with concurrence of the Secretary of Agriculture;

• The Alaska Regional Director, Bureau of Indian Affairs;

• The Alaska State Director, Bureau of Land Management;

• The Alaska Regional Director, National Park Service;

• The Alaska Regional Director, U.S. Fish and Wildlife Service; and

• The Alaska Regional Forester, U.S. Forest Service.

Through the Board, these agencies and public members participate in the development of regulations for subparts C and D. Subpart C sets forth important Board determinations regarding program eligibility, i.e., which areas of Alaska are considered rural and which species are harvested in those areas as part of a “customary and traditional use” for subsistence purposes. Subpart D sets forth specific seasons, limits, and other harvest parameters and requirements.

In administering the Program, the Secretaries divided Alaska into 10 subsistence resource regions, each of which is represented by a Federal Subsistence Regional Advisory Council. The Councils provide a forum for rural residents with personal knowledge of local conditions and resource requirements to have a meaningful role in the subsistence management of fish and wildlife on Federal public lands in Alaska. The Council members represent varied geographical, cultural, and user interests within each region.

Public Review Process—Comments, Proposals, and Public Meetings

The Councils have a substantial role in reviewing this proposed rule and making recommendations for the final rule. The Board, through the Councils, will hold public meetings in person and via teleconference on this proposed rule at the following locations in Alaska, on the following dates:

Table 1—Winter 2026 Meetings of the Federal Subsistence Regional Advisory Councils
Regional Advisory Council | Dates | Location
Southeast Alaska—Region 1 | March 10-12 | Juneau.
Southcentral Alaska—Region 2 | March 17-18 | Anchorage.
Kodiak/Aleutians—Region 3 | March 4-5 | Kodiak.
Bristol Bay—Region 4 | March 9-10 | Naknek.
Yukon-Kuskokwim Delta—Region 5 | March 17-19 | Bethel.
Western Interior—Region 6 | February 24-25 | Fairbanks.
Seward Peninsula—Region 7 | March 30-31 | Nome.
Northwest Arctic—Region 8 | March 31-April 1 | Kotzebue.
Eastern Interior—Region 9 | March 3-5 | Fairbanks.
North Slope—Region 10 | February 24-25 | Utqiagvik.

After the comment period concludes, the written proposals to change the regulations at subpart D, take of fish and shellfish and subpart C, customary and traditional use and rural determinations, will be compiled and distributed for public review. Written public comments will be accepted on the distributed proposals during a second minimum 30-day public comment period, which will be announced in statewide newspaper and radio ads and posted to the Program web page and social media. The Board, through the Councils, will hold a second series of public meetings or teleconference meetings in September through October 2026, to receive comments on specific proposals and to develop recommendations to the Board on the following dates:

Table 2—Fall 2026 Meetings of the Federal Subsistence Regional Advisory Councils
Regional Advisory Council | Dates | Location
Southeast Alaska—Region 1 | October 20-22 | Gustavus.
Southcentral Alaska—Region 2 | October 14-15 | Anchorage.
Kodiak/Aleutians—Region 3 | October 1-2 | Unalaska.
Bristol Bay—Region 4 | October 28-29 | Dillingham.
Yukon-Kuskokwim Delta—Region 5 | October 27-29 | Bethel.
Western Interior—Region 6 | October 6-7 | Aniak.
Seward Peninsula—Region 7 | October 20-21 | Nome.
Northwest Arctic—Region 8 | September 24-25 | Kotzebue.
Eastern Interior—Region 9 | October 6-8 | Fort Yukon.
North Slope—Region 10 | Oct 1-2 | Utqiagvik.

Public notice of specific dates, times, call-in number(s), and how to participate and provide public testimony will be announced in radio ads and posted to the Program web page and social media at least 2 weeks prior to each meeting. The amount of work on each Council's agenda determines the length of each Council's meeting, but typically the meetings are scheduled to last 2-3 days. Occasionally a Council will lack the necessary information during a scheduled meeting to make a recommendation to the Board or to provide comments on other matters affecting subsistence in the region. If this situation occurs, the Council may announce on the record a later teleconference to address the specific issue when the requested information or data is available; it is noted that any follow-up teleconference would be an exception and must be approved, in advance, by the Director of the Office of Subsistence Management. These teleconferences are open to the public, along with opportunities for public comment; the date and time will be announced during the scheduled meeting, and through news releases and local radio, the Program web page, and social media ads.

The Board will discuss and evaluate proposed changes to the subsistence management regulations during a public meeting scheduled to be held in Anchorage, Alaska, in February 2027. The Council Chairs, or their designated representatives, will present their respective Councils' recommendations at the Board meeting. Additional oral testimony may be given on specific proposals before the Board at that time. At that public meeting, the Board will deliberate and take final action on proposals received that request changes to this proposed rule.

Proposals to the Board to modify the general fish and wildlife regulations, fish and shellfish harvest regulations, customary and traditional use determinations, and rural determinations must include the following information:

a. Name, address, and telephone number of the requestor;

b. Each section and/or paragraph designation in the current regulations for which changes are suggested, if applicable;

c. A description of the regulatory change(s) desired;

d. A statement explaining why each change is necessary;

e. Proposed wording changes; and

f. Any additional information that you believe will help the Board in evaluating the proposed change.

The Board will immediately reject proposals that fail to include the above information, or proposals that are beyond the scope of § _.23, and _.24 subpart C (rural determinations and customary and traditional use determinations) and § _.25, _.27, and _.28 of subpart D (the general and specific regulations governing the subsistence take of fish and shellfish). If a proposal needs clarification, prior to being distributed for public review, the proponent may be contacted, and the proposal could be revised based on their input. Once a proposal is distributed for public review, no additional changes may be made. During the February 2027 meeting, the Board may defer review and action on some proposals to allow time for cooperative planning efforts, or to acquire additional needed information. The Board may elect to defer taking action on any proposal if the workload of staff, Councils, or the Board becomes excessive. These deferrals may be based on recommendations by the affected Council(s) or staff members or on the Board's intention to do least harm to the subsistence user and the resource involved. A proponent of a proposal may withdraw the proposal provided it has not been considered by a Council. The Board may consider and act on alternatives that address the intent of a proposal while differing in approach.

You may submit written comments and materials concerning this proposed rule by one of the methods listed in ADDRESSES. If you submit a comment via http://www.regulations.gov, your entire comment, including any personal identifying information, will be posted on the website. If you submit a hardcopy comment that includes personal identifying information, you may request at the top of your document that we withhold this information from public review. However, we cannot guarantee that we will be able to do so. We will post all hardcopy comments on http://www.regulations.gov.

Comments and materials we receive, as well as supporting documentation we used in preparing this proposed rule, will be available for public inspection on http://www.regulations.gov at Docket No. DOI-2025-0071, or by appointment, provided no public health or safety restrictions are in effect, between 8 a.m. and 3 p.m., Monday through Friday, except Federal holidays, at: Office of Subsistence Management, 1011 East Tudor Road, Anchorage, AK 99503.

Reasonable Accommodations

The Board is committed to providing access to these meetings for all participants. Please direct all requests for sign language interpreting services, closed captioning, or other accommodation needs to the Office of Subsistence Management at 907-786-3888, subsistence@ios.doi.gov, or 800-877-8339 (TTY), 7 business days prior to the meeting you would like to attend.

Tribal Consultation and Comment

As expressed in Executive Order 13175, “Consultation and Coordination with Indian Tribal Governments,” the Federal officials that have been delegated authority by the Secretaries are committed to honoring the unique government-to-government political relationship that exists between the Federal Government and Federally Recognized Indian Tribes (herein after referred to as “Tribes”) as listed in 82 FR 4915 (January 17, 2017). Consultation with Alaska Native corporations is based on Public Law 108-199, div. H, Sec. 161, Jan. 23, 2004, 118 Stat. 452, as amended by Public Law 108-447, div. H, title V, Sec. 518, Dec. 8, 2004, 118 Stat. 3267, which provides that: “The Director of the Office of Management and Budget and all Federal agencies shall hereafter consult with Alaska Native corporations on the same basis as Indian tribes under Executive Order No. 13175.”

The Alaska National Interest Lands Conservation Act does not provide specific rights to Tribes for the subsistence taking of wildlife, fish, and shellfish. However, because Tribal members are affected by subsistence fishing, hunting, and trapping regulations, the Secretaries, through the Board, will provide Tribes and Alaska Native corporations an opportunity to consult on this proposed rule.

The Board will engage in outreach efforts for this proposed rule, including a notification letter, to ensure that Tribes and Alaska Native corporations are advised of the mechanisms by which they can participate. The Board provides a variety of opportunities for consultation: proposing changes to the existing rule, commenting on proposed changes to the existing rule, engaging in dialogue at the Regional Council meetings, engaging in dialogue at Board meetings, and providing input in person, by mail, email, or phone at any time during the rulemaking process. The Board will commit to efficiently and adequately provide an opportunity to Tribes and Alaska Native corporations for consultation regarding subsistence rulemaking according to the Board's policies on consultation.

The Board will consider Tribes' and Alaska Native corporations' information, input, and recommendations, and address their concerns as much as practicable.

Developing the 2027-28 and 2028-29 Fish and Shellfish Proposed Regulations

In titles 36 and 43 of the CFR, the subparts C and D regulations are subject to periodic review and revision. The Board currently completes the process of revising subsistence take of fish and shellfish regulations in odd-numbered years and subsistence taking of wildlife regulations in even-numbered years; public proposal and review processes take place during the preceding year. The Board also addresses customary and traditional use determinations during the applicable cycle. Rural determinations are taken up during every other fish and shellfish cycle, beginning in 2018.

Based on Board policy, the Board reviews each closure to the take of fish/shellfish and wildlife every 4 years, during each applicable cycle. The following table lists the current closures being reviewed for this cycle. In reviewing a closure, the Board may maintain, modify, or rescind the closure. If a closure is rescinded, the existing regulations apply, or if no regulations are in place, any changes to or the establishment of seasons, methods and means, and harvest limits must go through the full public proposal and review process. The public is encouraged to comment on these closures, and anyone recommending a regulatory change outside the scope of a closure review (i.e., a change not directly affecting the closure) should submit a regulatory proposal. Anyone recommending a closure to federally qualified subsistence users be rescinded should consider also responding to this proposed rule by submitting a proposal to establish Federal regulations for the area and species that was closed.

Table 3—Fish and Shellfish Closures To Be Reviewed by the Federal Subsistence Board for the 2027-2028 and 2028-2029 Regulatory Years
Fishery management area | Species | General description
Yukon-Northern Area | Salmon | Kanuti River—closed to federally qualified subsistence users.
Yukon-Northern Area | Salmon | Bonanza Creek—closed to federally qualified subsistence users.
Yukon-Northern Area | Salmon | Jim River—closed to federally qualified subsistence users.
Aleutian Islands Area | Salmon | Unalaska Lake—closed to federally qualified subsistence users.
Aleutian Islands Area | Salmon | Summers and Morris Lakes—closed to federally qualified subsistence users.
Aleutian Islands Area | Salmon | Unalaska Bay—closed to federally qualified subsistence users.
Aleutian Islands Area | Salmon | McLees Lake—closed to federally qualified subsistence users.
Kodiak Area | King Crab | Womens Bay, Gibson Cove, Karluk River, and Afognak Island marine waters—closed to non-federally qualified users.
Southeastern Alaska Area | Sockeye Salmon | Neva Lake, Neva Creek, and South Creek—closed to non-federally qualified users.
Southeastern Alaska Area | All Fish | Kah Sheets Creek—closed to non-federally qualified users.

The current subsistence program regulations form the starting point for consideration during each new rulemaking cycle. Consequently, in this fish and shellfish rulemaking action, the Board will consider proposals to revise the regulations in any of the following sections of titles 36 and 43 of the CFR:

• § _.23: rural determinations;

• § _.24: customary and traditional use determinations;

• § _.25: general provisions governing the subsistence take of wildlife, fish, and shellfish;

• § _.27: specific provisions governing the subsistence take of fish; and

• § _.28: specific provisions governing the subsistence take of shellfish.

As such, the text of the proposed 2027-2029 subparts C and D subsistence regulations in titles 36 and 43 is the combined text of previously issued rules that revised these sections of the regulations. The following Federal Register citations show when these CFR sections were last revised. Therefore, the regulations established by these final rules constitute the text of this proposed rule:

The text of the proposed amendments to 36 CFR 242.23, 242.27, and 242.28 and 43 CFR 51.23, 51.27, and 51.28 is the final rule for the 2025-2027 regulatory period for fish and shellfish (90 FR 34157, July 18, 2025).

The text of the proposed amendments to 36 CFR 242.24 and 242.25 and 43 CFR 51.24 and 51.25 is the final rule for the transfer and amendment of Federal Subsistence Management Program regulations (90 FR 34148; July 18, 2025).

These regulations will remain in effect until subsequent Board action changes them as a result of the public review process outlined above in this document and a new final rule is published.

Compliance With Statutory and Regulatory Authorities

National Environmental Policy Act

A Draft Environmental Impact Statement that described four alternatives for developing a Federal Subsistence Management Program was distributed for public comment on October 7, 1991. The Final Environmental Impact Statement (FEIS) was published on February 28, 1992. The Record of Decision (ROD) on Subsistence Management for Federal Public Lands in Alaska was signed April 6, 1992. The selected alternative in the FEIS (Alternative IV) defined the administrative framework of an annual regulatory cycle for subsistence regulations.

A 1997 environmental assessment dealt with the expansion of Federal jurisdiction over fisheries and is available at the office listed under FOR FURTHER INFORMATION CONTACT. The Secretary of the Interior, with concurrence of the Secretary of Agriculture, determined that expansion of Federal jurisdiction does not constitute a major Federal action significantly affecting the human environment and, therefore, signed a Finding of No Significant Impact.

Section 810 of ANILCA

An ANILCA section 810 analysis was completed as part of the FEIS process on the Federal Subsistence Management Program. The intent of all Federal subsistence regulations is to accord subsistence uses of fish and wildlife on public lands a priority over the taking of fish and wildlife on such lands for other purposes, unless restriction is necessary to conserve healthy fish and wildlife populations or to continue subsistence uses. The final section 810 analysis determination appeared in the April 6, 1992, ROD and concluded that the Federal Subsistence Management Program, under Alternative IV with an annual process for setting subsistence regulations, may have some local impacts on subsistence uses, but will not likely restrict subsistence uses significantly.

During the subsequent 1997 environmental assessment process for extending fisheries jurisdiction, an evaluation of the effects of the subsistence program regulations was conducted in accordance with section 810. That evaluation also supported the Secretaries' determination that the regulations will not reach the “may significantly restrict” threshold that would require notice and hearings under ANILCA section 810(a).

Paperwork Reduction Act of 1995 (PRA)

This proposed rule does not contain any new collections of information that require Office of Management and Budget (OMB) approval under the PRA (44 U.S.C. 3501 et seq.). OMB has reviewed and approved the collections of information associated with the subsistence regulations at 36 CFR part 242 and 43 CFR part 51, and assigned OMB Control Numbers 1090-0014 and 1090-0015, with an expiration date of November 30, 2028. We may not conduct or sponsor and you are not required to respond to a collection of information unless it displays a currently valid OMB control number.

Regulatory Planning and Review (Executive Order 12866 and 13563)

According to Executive Order 12866, as reaffirmed by E.O. 13563, regulations must be based on the best available science, and the rulemaking process must allow for public participation and an open exchange of ideas. The OMB Office of Information and Regulatory Affairs (OIRA) has determined that this proposed rule is not significant.

Executive Order 13563 reaffirms the principles of E.O. 12866 while calling for improvements in the nation's regulatory system to promote predictability, to reduce uncertainty, and to use the best, most innovative, and least burdensome tools for achieving regulatory ends. E.O. 13563 directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this proposed rule in a manner consistent with these requirements.

Regulatory Flexibility Act

The Regulatory Flexibility Act of 1980 (5 U.S.C. 601 et seq.) requires preparation of flexibility analyses for rules that will have a significant economic impact on a substantial number of small entities, which include small businesses, organizations, or governmental jurisdictions. In general, the resources to be harvested under this proposed rule are already being harvested and consumed by the local harvester and do not result in an additional dollar benefit to, or impact on the economy. Therefore, the Departments certify that this rulemaking will not have a significant economic impact on a substantial number of small entities within the meaning of the Regulatory Flexibility Act.

Small Business Regulatory Enforcement Fairness Act

Under the Small Business Regulatory Enforcement Fairness Act (5 U.S.C. 801 et seq.), this proposed rule is not a major rule. It will not have an effect on the economy of $100 million or more, will not cause a major increase in costs or prices for consumers, and will not have significant adverse effects on competition, employment, investment, productivity, innovation, or the ability of U.S.-based enterprises to compete with foreign-based enterprises.

Executive Order 12630

Title VIII of ANILCA requires the Secretaries to administer a subsistence priority on federal public lands. The scope of this program is limited by definition to certain federal public lands. Likewise, these proposed regulations have no potential takings of private property or require any permitting on private property as defined by Executive Order 12630.

Unfunded Mandates Reform Act

The Secretaries have determined and certify pursuant to the Unfunded Mandates Reform Act, 2 U.S.C. 1502 et seq., that this rulemaking will not impose a cost of $100 million or more in any given year on local or State governments or private entities. The implementation of this rule is by Federal agencies and there is no cost imposed on any State or local entities or Tribal governments.

Executive Order 12988

The Secretaries have determined that these regulations meet the applicable standards provided in sections 3(a) and 3(b)(2) of Executive Order 12988, regarding civil justice reform.

Executive Order 13132

In accordance with Executive Order 13132, this proposed rule does not have sufficient federalism implications to warrant the preparation of a Federalism Assessment. Title VIII of ANILCA precludes the State from exercising subsistence management authority over fish and wildlife resources on Federal lands unless it meets certain requirements.

Executive Order 13175

Title VIII of ANILCA does not provide specific rights to Tribes for the subsistence taking of wildlife, fish, and shellfish. However, as described above under Tribal Consultation and Comment, the Secretaries, through the Board, will provide federally recognized Tribes and Alaska Native corporations a variety of opportunities for consultation: commenting on proposed changes to the existing rule; engaging in dialogue at the Regional Advisory Council meetings; engaging in dialogue at the Board's meetings; and providing input in person, by mail, email, or phone at any time during the rulemaking process.

Executive Order 13211

This Executive Order requires agencies to prepare Statements of Energy Effects when undertaking certain actions. However, this proposed rule is not a significant regulatory action under E.O. 13211, affecting energy supply, distribution, or use, and no Statement of Energy Effects is required.

Executive Order 14153

This Executive order directs all bureaus of the Department of the Interior to consider the Alaskan cultural significance of hunting and fishing and the statutory priority of subsistence management required by ANILCA, to conduct meaningful consultation with the State fish and wildlife management agencies prior to enacting regulations that affect the ability of Alaskans to hunt and fish on public lands, and to ensure to the greatest extent possible that hunting and fishing opportunities on Federal lands are consistent with similar opportunities on State lands.

The Board will offer consultation with the State of Alaska on all matters addressed during this regulatory cycle. In addition, the State will be afforded opportunities to provide input into the analyses of all the proposed changes to the regulations and to provide comments to the Councils and the Board on regulatory matters being considered. The Board will consider all comments and information provided by the State in this process. The Board will also review applicable State regulations. Deviations in consistency between State and Federal hunting and fishing opportunities will be minimized to the extent possible while the Program continues to meet the mandates of ANILCA.

Executive Order 14192

This Executive order requires that, for each new regulation issued, at least 10 prior regulations be identified for elimination. The purpose is to ensure that the cost of planned regulations is responsibly managed and controlled through a rigorous regulatory budgeting process. The Program's rulemaking does not create new regulations, rather it revises existing regulations. Since this rulemaking does not create new regulations, it does not necessitate the identification of regulations for recission.

Drafting Information

Justin Koller drafted this proposed rule under the guidance of Crystal Leonetti of the Office of Subsistence Management, Department of the Interior, Office of the Assistant Secretary for Policy, Management, and Budget, Anchorage, Alaska. Additional assistance was provided by:

• Matt Varner, Alaska State Office, Bureau of Land Management;

• Eva Patton, Alaska Regional Office, National Park Service;

• Dr. Glenn Chen, Alaska Regional Office, Bureau of Indian Affairs;

• Jill Klein, Alaska Regional Office, U.S. Fish and Wildlife Service; and

• Gregory Risdahl, Alaska Regional Office, USDA—Forest Service.

List of Subjects

36 CFR Part 242

Administrative practice and procedure, Alaska, Fish, National forests, Public lands, Reporting and recordkeeping requirements, Wildlife.

43 CFR Part 51

Administrative practice and procedure, Alaska, Fish, National forests, Public lands, Reporting and recordkeeping requirements, Wildlife.

Proposed Regulation Promulgation

For the reasons set out in the preamble, the Federal Subsistence Board proposes to amend 36 CFR part 242 and 43 CFR part 51 for the 2027-28 and 2028-29 regulatory years:

Proposed amendments to 36 CFR 242.23, 242.27, and 242.28 and 43 CFR 51.23, 51.27, and 51.28 last amended by the final rule for the 2025-2027 regulatory period for fish and shellfish (90 FR 34157, July 18, 2025).

Proposed amendments to 36 CFR 242.24 and 242.25 and 43 CFR 51.24 and 51.25 last amended by the final rule for the transfer and amendment of Federal Subsistence Management Program regulations (90 FR 34148; July 18, 2025).

Crystal Leonetti,
Director, DOI—Office of Subsistence Management.
Gregory Risdahl,
Subsistence Program Leader, USDA—Forest Service.

[FR Doc. 2026-02853 Filed 2-11-26; 8:45 am]

BILLING CODE 3411-15-P; 4334-13-P